NATIONAL SCIENCE FOUNDATION

Committee on Equal Opportunities in Science and Engineering; Notice of Meeting

In accordance with the Federal Advisory Committee Act (Pub. L. 92-463, as amended), the National Science Foundation (NSF) announces the following meeting:

Name and Committee Code: Committee on Equal Opportunities in Science and Engineering (CEOSE) (#1173).

Date and Time: February 19, 2020; 1:00 p.m.-5:30 p.m.

February 20, 2020; 8:30 a.m.-3:30 p.m.

Place: National Science Foundation, 2415 Eisenhower Avenue, Conference Room E-2020, Alexandria, VA 22314.

If you are interested in attending this meeting, you are required to attend in person. To help facilitate your entry into the building, please contact Una Alford (ualford@nsf.gov or 703-292-7111) on or prior to February 17, 2020.

Type of Meeting: Open.

Contact Person: Dr. Bernice Anderson, Senior Advisor and CEOSE Executive Secretary, Office of Integrative Activities (OIA), National Science Foundation, 2415 Eisenhower Avenue, Alexandria, VA 22314. Contact Information: 703-292-8040/banderso@nsf.gov.

Minutes: Meeting minutes and other information may be obtained from the CEOSE Executive Secretary at the above address or the website at http://www.nsf.gov/od/oia/activities/ceose/index.jsp.

Purpose of Meeting: To study data, programs, policies, and other information pertinent to the National Science Foundation and to provide advice and recommendations concerning broadening participation in science and engineering.

Agenda

• Opening Statement and Report by the CEOSE Chair

• NSF Executive Liaison Report

• NSF INCLUDES Update

• Roundtable: Responding to the 2017-2018 CEOSE Recommendation

• Panel: Investing in Community-based Research

• Discussion: 2019-2020 CEOSE Report

• Discussion of Topics to Share with NSF Leadership

• Panel: Long-Term Impacts of OIA's Investments in Broadening Participation

• Panel: Issues of INVISIBILITY in STEM

• Meeting with NSF Director and Chief Operating Officer

• Discussion: Future Plans, Announcements, and Final Remarks.

Dated: January 22, 2020.
Crystal Robinson,
Committee Management Officer.

[FR Doc. 2020-01316 Filed 1-24-20; 8:45 am]

BILLING CODE 7555-01-P